DEPARTMENT OF AGRICULTURE

Forest Service

Nez Perce-Clearwater National Forests; Idaho; Lolo Insect & Disease Project

AGENCY: Forest Service, USDA.

ACTION: Revised Notice of Intent to prepare an Environmental Impact Statement.

SUMMARY: This is a corrected Notice of Intent (NOI). This notice updates the information about the purpose and need, proposed action, expected dates of the Draft Environmental Impact Statement (EIS) and Final EIS, addresses, contact information for the project, and the responsible official for the Lolo Insect & Disease project. This notice also provides clarification for individuals or organizations that provided comments in response to scoping previously conducted as it relates to having standing to object. Preliminary issues, alternatives, and permits are also available and presented in this notice.

DATES: Comments concerning the scope of the analysis must be received by October 17, 2017. The Draft EIS is expected January of 2018 and the Final EIS is expected August of 2018. This project was originally scoped under the provisions of 36 CFR 215. For this project, individuals or organizations who submitted written comments in response to scoping conducted under 36 CFR 215 will be considered to have standing to object under 36 CFR 218, Subparts A and B. Those who also wish to establish standing to object under 36 CFR part 218 should submit scoping comments no later than 15 days after publication of this Notice of Intent or during the 45-day comment period following distribution of the Draft EIS.

ADDRESSES: Send written comments to Lochsa Ranger District, c/o Sara Daugherty, 502 Lowry Street, Kooskia, Idaho 83539. Comments may also be sent via email to comments-northern-clearwater-lochsa@fs.fed.us, or via facsimile to 208-926-6450.

FOR FURTHER INFORMATION CONTACT: For more information please contact Sara Daugherty at 208-926-6404 or sddaugherty@fs.fed.us.

Individuals who use telecommunication devices for the deaf (TDD) may call the Federal Information Relay Service (FIRS) at 1-800-877-8339 between 8 a.m. and 8 p.m., Eastern Time, Monday through Friday.

SUPPLEMENTARY INFORMATION: The Forest Service gives notice of its intent to prepare an EIS for the Lolo Insect & Disease project to analyze and disclose the effects of proposed forest management and watershed improvement activities within the Lolo Creek watershed, located approximately 16 miles northeast of Kamiah, Idaho. The proposed action would use a combination of timber harvest and reforestation to achieve the desired range of age classes, size classes, vegetative species distributions, habitat complexity (diversity), and landscape patterns across the forested portions of the project area. Road decommissioning, culvert replacements, road and trail improvements, and soils rehabilitation are also proposed to improve watershed health. The EIS will analyze the effects of the proposed action and alternatives. The Nez Perce-Clearwater National Forests invites comments and suggestions on the issues to be addressed. The agency gives notice of the National Environmental Policy Act (NEPA) analysis and decision making process on the proposal so interested and affected members of the public may participate and contribute to the final decision. The original notice was published in the Federal Register on April 25, 2013; 78 FR 24718. This process is being conducted pursuant to the National Environmental Policy Act (NEPA), the Council on Environmental Quality Regulations for Implementing the NEPA (40 CFR parts 1500-1508), and Forest Service NEPA guidelines. Additionally, pursuant to Section 106 of the National Historic Preservation Act, the public scoping process will allow members of the general public to provide comments on potential impacts to historic and cultural resources for the proposed action. An objection priod for the Draft Record of Decision will be provided, consistent with 36 CFR part 218.

Purpose and Need for Action

Vegetation and Wildlife Habitat Improvement

Existing Condition: Most of the project area is in Forest Plan management area (MA) E1. MA E1 is timber-producing land to be managed for healthy timber stands to optimize potential timber growing. Timber production is to be cost-effective and provide maximum protection of soil and water quality. Big game, primarily elk, is to be managed through limited road closures. Dispersed recreation and livestock grazing will be provide if compatible with timber management goals.

In the project area, fires that occurred in 1910 and 1934 and the introduction of white pine blister rust have created a homogeneous age class and species composition which has become highly susceptible to insect and disease change agents due to its current age. Mortality in grand fir and Douglas-fir dominated stands is increasing from root disease, Douglas-fir bark beetle, and grand fir engraver. In 2015, some of the proposed treatment areas were burned causing extensive tree mortality. Insects are invading stands within and outside of areas burned in 2015. Currently, a higher percentage of grand fir and Douglas-fir exist than natural long-term disturbances patterns would have created and that would have dominated these habitat types in the absence of historical disturbance events. Grand fir and Douglas-fir are more susceptible to insects and diseases, and grand fir is less likely to survive intense wildfires, than early seral species such as ponderosa pine, western larch, and western white pine.

Young forest habitat is lacking on this landscape, while the quality of available habitat for sensitive and old growth-associated species has declined. Patches of young forest that do exist are smaller with edges that are straighter and more even than natural disturbances would have created.

Desired Condition: The desired condition is a forest structure with a range of age and size classes with species diversity that is resistant and resilient to change agents such as insects, diseases, and wildfires. Early seral species (white pine, larch) should represent a greater percentage of the species mix.

Need for Action: Vegetation in this area needs to be managed to create a more diverse and resilient forest structure by creating a range of age and size classes, species diversity, and disturbance patterns that more closely emulate the results of natural disturbance. A need exists to shift tree species composition away from shade-tolerant species toward more resistant and resilient early seral species. Restoration of blister rust resistant white pine is a primary objective.

Goods and Services

Existing Condition: Much of the Project area consists of grand fir-dominated stands. Insect and disease infestations are contributing to increased tree mortality, while decreasing timber volume and value.

Desired Condition: The desired condition is to provide a sustained yield of resource outputs as direct by the Clearwater Forest Plan.

Need for Action: Stands that are infested with insects and diseases need to be treated so that the harvested timber that still has a merchantable product in the trees will help sustain community stability through supporting jobs in the timber industry and support businesses.

Watershed Improvement

The emphasis for watershed restoration in the Lolo Creek drainage is associated with roads and soil improvement.

Existing Condition: Gravel and native surface roads could contribute sediment to stream channels, which can affect water quality and fish habitat. There are 555 miles of system and 40 miles of non-system road in the Lolo Creek watershed. A total of 178 miles occurs within designated PACFISH buffers.

Desired Condition: The desired condition is to maintain a road system in the Lolo Creek watershed that is adequate to provide for continued recreation, commodity production, and administrative use as described in the Clearwater Forest Plan while maintaining fish and water quality objectives.

Need for Action: Improving watershed function and stream conditions by reducing road densities and repairing existing roads and culverts to reduce sediment and improve drainage is needed. New system roads would be constructed to provide a long term transportation system while reducing roads located within riparian habitat conservation areas.

Roads Analysis

Existing Condition: Transportation planning has been completed at the Clearwater National Forest level by analyzing the entire transportation system as a whole. A roads analysis of the project area provides the current transportation system.

Desired Condition: A diversity of motorized access adequate to provide for continued recreation, commodity production, and administrative use as described in the Clearwater Forest Plan.

Need for Action: A comprehensive roads analysis including all motorized access opportunities. Implementation of the results of the roads analysis would create a sustainable transportation system.

Soil Improvement

Existing Condition: Past management activities have resulted in areas of detrimental soil disturbance, mostly in the form of compacted or displaced soil or loss of organic matter.

Desired Condition: Soils are productive (functioning soil biology, soil hydrology, and nutrient cycling) and stable.

Need for Action: Watershed function can be improved by restoring compacted soils and adding organic material on old skid trails and landings. Restoration of meadow function with seeding and planting of native species.

Proposed Action

The Lochsa Ranger District proposes the following vegetation management actions to improve forest health, reforest areas burned in 2015, provide goods and services, and improve wildlife habitat:

• Variable retention regeneration harvest and site preparation activities would be conducted on approximately 3464 acres. Stands that are currently being affected by biotic change agents would be targeted for treatment. Regeneration harvest would create early successional plant communities and habitat. Project design criteria would be used in portions of units to address specific resource concerns, such as areas within the National Historic Landmark Corridor that require retention to meet visual objectives. Regeneration would focus on restoring white pine and other long-lived early seral species. Variable retention harvest would include areas of full retention (clumps), irregular edges, and retention of snags and legacy trees to provide structure and a future source of woody debris. Some openings may exceed 40 acres. Harvest would include utilizing ground based, skyline, and helicopter yarding systems; as well as approximately 2.6 miles of tractor swing trails. There is no harvest proposed in old growth.

• Approximately 19 miles of temporary roads would be constructed to carry out the proposed harvest. Temporary roads would be decommissioned after use.

The following road improvement actions area proposed to reduce sediment production and address transportation needs.

• Road improvements would occur on up to 125 miles of roads within the project area. Road improvement activities include: Adding cross drains on either side of perennial streams where fish-bearing would be the highest priority followed by non-fish bearing perennial streams (these would be determined and prioritized based on field review); replacing crossings on perennial streams with structures appropriately sized for a 100-year event (these would be prioritized by the district fisheries biologist); and stabilize eroding sections of road that may be accomplished by blading followed by spot rocking or the addition of drainage structures where needed.

• Road maintenance and reconditioning would occur on approximately 157 miles of system roads. Maintenance consist of culvert cleaning, surface blading, and roadside brushing; and reconditioning includes minor road reshaping, waterbar removal, and road surface brush removal.

• Road decommissioning is proposed on approximately 60 miles of system road and approximately 30 miles of non-system road. In most cases this includes fully re-contouring the road.

• Approximately 4 miles of system roads would be converted to an off-highway vehicle (OHV) trail.

• Approximately 0.74 miles of new system roads would be constructed to contribute to the long term transportation system while reducing roads located within riparian habitat conservation areas.

The following actions are proposed to improve soil and vegetation conditions in the Musselshell Restoration Area portion (1,600 acres) of the project area:

• Approximately 745 acres of white pine restoration would be accomplished through intermediate harvest by creating small openings to plant blister rust resistant seedlings, benefit other species, and contribute to ecosystem health.

• Approximately 92 acres of riparian habitat conservation area (RHCA) restoration would occur where RHCAs of perennial streams are overstocked with trees. Trees would be commercially thinned to promote a healthy stand and promote long term RHCA function.

• Soil rehabilitation would occur on approximately 55 acres of currently detrimentally disturbed areas associated with past harvest related activities. Activities could include decompaction, mastication, fertilization, seeding, and addition of woody/organic material.

• Deferred maintenance would occur on mile of Trail #853. Work may include improvement and development of drainage structures within the existing tread. Rock and/or gravel material may be placed on the exiting tread surface to complement the drainage structures and provide adequate base to support motorized OHV use, reduce erosion, and loss of fine materials.

The Lolo Insect & Disease project will also include a variety of project design criteria that have been developed from past projects, verified by field surveys, and will be used to limit possible adverse effects to soils, water quality, fish and wildlife habitat, recreation opportunities, and culturally significant areas.

Possible Alternatives

In addition to the No Action and the Proposed Action, alternatives that do not harvest in riparian habitat conservation areas, within the Eldorado Creek Roadless Area and special areas of historic or tribal significance (such as the National Historic Landmark corridor), as well as minimal temporary road construction with more helicopter logging are expected. These preliminary alternatives were developed based on prior scoping comments received. Alternatives will be developed based on previous and additional comments received during the scoping periods.

Responsible Official

Nez Perce-Clearwater Forest Supervisor.

Nature of Decision To Be Made

The Responsible Official will determine whether to adopt the proposed action or another alternative, in whole or in part, and what mitigation measurements and management requirements will be implemented.

Preliminary Issues

Issues received during the previous scoping period include harvesting in the Eldorado Creek Roadless Area, the National Historic Landmark corridor, and other special areas of historic or tribal significance; riparian habitat conservation area thinning, helicopter logging systems, winter logging, and minimal road construction.

Permits or Licenses Required

Any required permits for disturbance of water or wetlands would be obtained prior to initiating work (Army Corps of Engineers 404 permit, Idaho Department of Water Resources Stream Alteration Permit). Any additional mitigation measures identified in the permitting process would be incorporated into the project plans.

Scoping Process

This Notice of Intent initiates the scoping process, which guides the development of the EIS. The interdisciplinary team will continue to seek information and comments from Federal, State, and local agencies, Tribal governments, and other individuals or organizations that may interested in, or affected by, the proposed action. There is a collaborative group in the area that the interdisciplinary team will interact with during the analysis process. It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered, however, anonymous comments will not provide the Agency with the ability to provide the respondent with subsequent environmental documents.

Dated: September 13, 2017.
Jeanne M. Higgins,
Acting Associate Deputy Chief, National Forest System.

[FR Doc. 2017-21008 Filed 9-29-17; 8:45 am]

BILLING CODE 3411-15-P